COMMISSION ON CIVIL RIGHTS

Agenda and Notice of Public Meeting of the Florida Advisory Committee

Notice is hereby given, pursuant to the provisions of the rules and regulations of the U.S. Commission on Civil Rights (Commission) and the Federal Advisory Committee Act (FACA), that a meeting of the Florida Advisory Committee to the U.S. Commission on Civil Rights will convene at 1 p.m. and adjourn at 5 p.m. on Thursday, September 11, 2008, at the Diplomat Hotel, 501 Diplomat Parkway, Miami, FL 33009. A first purpose of the meeting is for the Committee to receive briefings on religious discrimination and the Federal Housing Assistance Program. A second purpose is for the Committee to plan activities regarding a civil rights project for 2009.

Members of the public are entitled to submit written comments; the comments must be received in the Southern Regional Office by September 30, 2008. The address is 61 Forsyth St., SW., Suite 18T40, Atlanta, GA 30303. Persons wishing to e-mail comments may do so to pminarik@usccr.gov. Persons who desire additional information should contact Peter Minarik, Regional Director, Southern Regional Office, U.S. Commission on Civil Rights at 404-562-7000 (or for the hearing impaired, TDD 202-376-8116). Hearing-impaired persons who will attend the meeting and require the services of a sign language interpreter should contact the Regional Office at least ten (10) working days before the scheduled date of the meeting.

Records generated from this meeting may be inspected and reproduced at the Southern Regional Office as they become available, both before and after the meeting. Persons interested in the work of this advisory committee are advised to go to the Commission's Web site, http://www.usccr.gov, or to contact the Southern regional Office at the above e-mail or street address.

The meeting will be conducted pursuant to the provisions of the rules and regulations of the Commission and FACA.

Dated in Washington, DC, August 15, 2008.
Christopher Byrnes,
Chief, Regional Programs Coordination Unit.

[FR Doc. E8-19301 Filed 8-19-08; 8:45 am]

BILLING CODE 6335-01-P